NATIONAL AERONAUTICS AND SPACE ADMINISTRATION

14 CFR Ch. V

Regulatory Agenda

AGENCY: National Aeronautics and Space Administration (NASA).

ACTION: Semiannual regulatory agenda.

SUMMARY: NASA's regulatory agenda describes those regulations being considered for development or amendment by NASA, the need and legal basis for the actions being considered, the name and telephone number of the knowledgeable official, whether a regulatory analysis is required, and the status of regulations previously reported.

The regulatory plan is a statement of the Agency's priorities that describe legislative and programmatic activities, highlight rulemaking that streamline's regulations and report requirements, identify regulations that are of particular concern to small businesses, include preliminary estimates of the anticipated costs and benefits of each rule, and provide specific citation of actions required by statue or court order.

ADDRESSES: Acting Associate Administrator, Mission Support Directorate, NASA Headquarters, Washington, DC 20546.

FOR FURTHER INFORMATION CONTACT: Cheryl E. Parker, (202) 358-0252.

SUPPLEMENTARY INFORMATION: OMB guidelines dated June 26, 2019, “Fall 2019 Data Call for the Regulatory Plan and Unified Agenda of Federal Regulatory and Deregulatory Actions,” require a regulatory agenda of those regulations under development and review to be published in the Federal Register each spring and fall.

Dated: July 26, 2019.
Verron Brade,
Acting Associate Administrator, Support Directorate.

National Aeronautics and Space Administration—Proposed Rule Stage
Sequence No. | Title | Regulation Identifier No.
340 | NASA Harassment Report Case Files (10 HRCF) Exemption (Section 610 Review) | 2700-AE50

NATIONAL AERONAUTICS AND SPACE ADMINISTRATION (NASA)

Proposed Rule Stage

340. NASA Harassment Report Case Files (10 HRCF) Exemption (Section 610 Review)

E.O. 13771 Designation: Other.

Legal Authority: 5 U.S.C. 552a, The Privacy Act of 1974

Abstract: NASA is issuing a direct final rule to modify the Agency's Privacy Act Regulations to exempt investigative materials found in NASA Harassment Report Case Files. The harassment report case records are used for the purpose of investigative materials for potential law enforcement purposes. The exemption would prevent these investigative case files from being released under the Privacy Act. Case Files records are exempted from the following sections of the Privacy Act (5 U.S.C. 552a): (c)(3) relating to access to the disclosure accounting; (d) relating to access to the records; (e)(1) relating to the type of information maintained in the records; (e)(4)(G), (H) and (I) relating to publishing in the annual system notice information as to agency procedures for access and correction and information as to the categories of sources of records; and (f) relating to developing agency rules for gaining access and making corrections.

Timetable:

Action | Date | FR Cite
NPRM | 04/00/20

Regulatory Flexibility Analysis Required: No.

Agency Contact: Patti Stockman, National Aeronautics and Space Administration, 300 E Street SW, Washington, DC 20546, Phone: 202 358-4787, Email: patti.stockman@nasa.gov.

RIN: 2700-AE50

[FR Doc. 2019-26569 Filed 12-23-19; 8:45 am]

BILLING CODE 7510-13-P